NATIONAL SCIENCE FOUNDATION

National Science Board; Executive Committee; Sunshine Act Meetings; Notice (Revised)

The National Science Board's Executive Committee, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

Date and Time: Tuesday, March 31, 2009 at 11:30 a.m.

Subject Matter: To make award actions.

Status: Closed.

This meeting will be held by teleconference originating at the National Science Board Office, National Science Foundation, 4201 Wilson Blvd., Arlington, VA 22230. Please refer to the National Science Board Web site (http://www.nsf.gov/nsb) for information or schedule updates, or contact: Clifford Gabriel, National Science Foundation, 4201 Wilson Blvd., Arlington, VA 22230. Telephone: (703) 292-7571.

Ann Ferrante,
Writer-Editor.

[FR Doc. E9-6834 Filed 3-26-09; 8:45 am]

BILLING CODE 7555-01-P